DEPARTMENT OF TRANSPORTATION

Federal Railroad Administration

[Docket Number FRA-2012-0020]

Notice of Product Development

In accordance with Part 211 of Title 49 Code of Federal Regulations (CFR), this document provides the public notice that by a document dated February 17, 2012, the Union Pacific Railroad (UP) and the National Railroad Passenger Corporation (Amtrak) have provided the Federal Railroad Administration (FRA) a Notice of Product Development per 49 CFR 236.913(d)(1)(i) for the modification of the Incremental Train Control System (ITCS). FRA has assigned the petition Docket Number FRA-2012-0020.

UP, Amtrak, and the Illinois Department of Transportation (IDOT) plan to conduct demonstration high-speed passenger train operations over a portion of the corridor between Chicago, IL, and St. Louis, MO, as part of the high-speed rail (HSR) program. The demonstration segments are on UP's Joliet Subdivision, between Control Point (CP) X073 South Dwight, milepost (MP) 72.81; and CP X093 Pontiac, MP 92.48.

This modification of ITCS is in furtherance of the High-Speed Rail 2A Route Construction Agreement or the “2A Agreement.” High-speed passenger trains will operate up to 110 mph on UP's portion of the 2A route. UP freight trains will continue to operate at speeds not to exceed 60 mph.

The scope of the work for the 2A Agreement requires UP to design, procure, and install:

1. Cab signal fixed equipment in an initial segment between Dwight and Pontiac.

2. A train control system meeting Positive Train Control (PTC) requirements on the entire UP portion of the route, in accordance with Federal regulations.

Because the proposed system does not meet the statutory and regulatory requirements for PTC systems, and does not interoperate with the same, UP and Amtrak plan to seek FRA approval for its operation under Part 236, Subpart H.

Operation on the demonstration segment will be under the centralized traffic control rules of the General Code of Operating Rules. UP freight trains will use automatic cab signals (ACS), consistent with the operation on its other ACS territories that do not provide speed control. Amtrak passenger trains will use the speed control function of the automatic train control onboard their locomotives, which provides enforcement of speed limits associated with signal indications. UP and Amtrak are the only operators on the demonstration segment.

ITCS will provide a mechanism for safe activation of highway-grade crossing warning devices by passenger trains operating in excess of 79 mph. In addition, the two-way communications feature of ITCS allows crossing health and status information to be provided to approaching ITCS equipped trains.

A copy of the notice, as well as any written communications concerning the notice, is available for review online at www.regulations.gov and in person at the U.S. Department of Transportation's (DOT) Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 1, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on April 11, 2012.
Ron Hynes,
Acting Deputy Associate Administrator for Regulatory and Legislative Operations.

[FR Doc. 2012-9115 Filed 4-16-12; 8:45 am]

BILLING CODE 4910-06-P